DEPARTMENT OF VETERANS AFFAIRS

Advisory Committee on the Readjustment of Veterans, Notice of Meeting

The Department of Veterans Affairs (VA) gives notice under Public Law 92-463 that a Meeting of the Advisory Committee on the Readjustment of Veterans will be held June 15 and 16, 2000. This will be a regularly scheduled meeting for the purpose of reviewing VA services of veterans, and to formulate Committee recommendations and objectives. The meeting on both days will be held at The American Legion, Washington Office, 1608 K Street, NW, Washington, DC. The agenda on both days will commence at 8:30 a.m. and adjourn at 4:30 p.m.

The agenda for Thursday, June 15, will include reviews of Veterans Health Administration (VHA) special emphasis programs for prosthetics, environmental agents and post-traumatic stress disorder. The agenda for both days will also include strategic planning sessions to formulate goals and objectives for a Committee field visit to VA facilities to be conducted later in the year.

On Friday, June 16, the Committee will review Veterans Benefits Administration (VBA) programs related to PTSD compensation, vocational rehabilitation and counseling, and transition assistance.

The meeting will be open to the public. Those who plan to attend or who have questions concerning the meeting may contact Alfonso R. Batres, Chief Readjustment Counseling Officer, Department of Veterans Affairs Headquarters Office at (202) 273-8967.

Dated: May 16, 2000.
By Direction of the Secretary.
Marvin R. Eason,
Committee Management Officer.

[FR Doc. 00-13168 Filed 5-24-00; 8:45 am]

BILLING CODE 8320-01-M